DEPARTMENT OF TRANSPORTATION

Maritime Administration

[Docket No. DOT MARAD-2013-0148]

Request for Comments of a Previously Approved Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on September 11, 2013 [55774, Vol. 78, No. 17] and comments were due by November 12, 2013. No comments were received.

DATES: Comments must be submitted on or before January 21, 2014.

FOR FURTHER INFORMATION CONTACT: Lauren Brand, Director, Office of Marine Highways and Passenger Services, MAR-520, Maritime Administration, Department of Transportation, 1200 New Jersey Avenue SE., Washington, DC 20590. Telephone: 202-366-7057; or email lauren.brand@dot.gov. Copies of this collection also can be obtained from that office.

SUPPLEMENTARY INFORMATION: Title: America's Marine Highway Program.

OMB Control Number: 2133-0541.

Type of Request: Renewal of a Previously Approved Information Collection.

Abstract: This collection of information will be used to evaluate applications submitted for project designation under the America's Marine Highway Program.

Affected Public: State, Local, or Tribal Government and Business or other for profit.

Estimated Number of Respondents: 20.

Estimated Number of Responses: 20.

Annual Estimated Total Annual Burden Hours: 200/10 hours per respondent.

Frequency of Collection: Annually.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: December 12, 2013.
Julie P. Agarwal,
Secretary, Maritime Administration.

[FR Doc. 2013-30360 Filed 12-19-13; 8:45 am]

BILLING CODE 4910-81-P